DEPARTMENT OF EDUCATION

Elementary and Secondary Education Act; Implementation

AGENCY: Office of Safe and Drug-Free Schools, Department of Education.

ACTION: Notice of proposed deadlines for final implementation.

The Deputy Under Secretary for Safe and Drug-Free Schools proposes deadline dates for final implementation of requirements under the Unsafe School Choice Option (USCO), under section 9532 of the Elementary and Secondary Education Act (ESEA) of 1965, as amended by the No Child Left Behind Act of 2001. This notice proposes deadlines by which each State must identify persistently dangerous schools, as well as offer students in those schools and students who are victims of violent criminal offenses while on school property the opportunity to transfer to a safe school.

DATES: We must receive your comments on or before May 7, 2003.

ADDRESSES: Address all comments about this notice to William Modzeleski, U.S. Department of Education, 400 Maryland Avenue, SW., Room 3E314, Washington, DC 20202-6123. If you prefer to send your comments through the Internet, use the following address: safeschl@ed.gov. Please specify “USCO Comments” in the subject line of your electronic message.

If you want to comment on the information collection requirements, you must send your comments to the Department representative named in that section.

FOR FURTHER INFORMATION CONTACT: Kristen Hayes, U.S. Department of Education, 400 Maryland Avenue, SW., Room 3E340, Washington, DC 20202-6123. Telephone: (202) 708-9431. Or via Internet: Kristen.Hayes@ed.gov.

Individuals who use a telecommunications device for the deaf (TDD) may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this notice of proposed deadlines. We invite you to assist us in complying with the specific requirements of Executive Order 12866 and its overall requirement of reducing regulatory burden that might result from this notice. Please let us know of any further opportunities we should take to reduce potential costs or increase potential benefits while preserving the effective and efficient administration of the program.

During and after the comment period, you may inspect all public comments about this notice of proposed deadlines in Room 3E314, FB6, 400 Maryland Avenue, SW., Washington, DC, between the hours of 8:30 a.m. and 4 p.m., Eastern time, Monday through Friday of each week except Federal holidays.

Assistance to Individuals With Disabilities

On request, we will supply an appropriate aid, such as a reader or print magnifier, to an individual with a disability who needs assistance to review the comments or other documents in the public record for this notice of proposed deadlines. If you want to schedule an appointment for this type of aid, please contact the person listed under FOR FURTHER INFORMATION CONTACT.

Proposed Deadlines and Affected Parties

We propose establishing two deadlines related to implementation of the USCO provisions: (1) The date by which each State must identify persistently dangerous public elementary and secondary schools; and (2) the date by which each State must allow students who attend a persistently dangerous school, and students who are victims of violent criminal offenses while at school or on the grounds of the school, to transfer to a safe school.

We propose that each State identify those schools that meet its definition of a persistently dangerous school by July 1, 2003 and each July 1st thereafter, and that each State allow students attending a persistently dangerous public elementary or secondary school to transfer to a safe school by the start of the 2003-2004 school year and by the start of every school year thereafter. We propose that, by the start of the 2003-2004 school year, each State must have in place its policy to allow students who are victims of violent criminal offenses while in or on the grounds of a school they attend to transfer to a safe public school. We recognize that the start of the school year will vary from local educational agency (LEA) to LEA. The opportunity to transfer provided by USCO must be offered to affected students by the start of the school year in their LEA. This policy would remain in place for future years. Changes, consistent with statutory requirements, may be made as needed by the State.

Background

Title IX, section 9532 of the Elementary and Secondary Education Act as reauthorized by the No Child Left Behind Act 2001 establishes the USCO requirements. Accordingly, each State receiving ESEA funds must establish and implement a statewide USCO policy. This policy must provide to a student attending a persistently dangerous public elementary or secondary school the opportunity to transfer to a safe public elementary school or secondary school (which may be a public charter school) within the LEA in which the student is currently enrolled. This policy must provide the same transfer opportunity to a student who becomes the victim of a violent criminal offense while in or on the grounds of that student's public elementary or secondary school.

Each State must establish a policy to address both USCO provisions after consultation with a representative sample of LEAs.

Section 9532 requires that, as a condition of receiving ESEA funds, each State certify to the Secretary that it is in compliance with the USCO requirements. Each State has already provided the required certification in its application for ESEA funding available on July 1, 2002. However, we recognized that not all States were able to meet all of the requirements of the USCO by that date. Thus, we permitted each State to “qualify” its respective certification, pending completion of the activities necessary to comply with the USCO provisions, and to report quarterly on its progress toward full compliance. We also issued draft non-regulatory guidance in July 2002 that outlined the implementation steps that would constitute full compliance with the USCO provisions.

We propose these deadlines to ensure that students who attend persistently dangerous schools or who are the victims of violent criminal offenses while in school or on school grounds are offered the opportunity to transfer to a safe public school as quickly as possible. Such transfers will help ensure the opportunity for students to learn in a safe environment.

We believe that the proposed deadlines appropriately balance the amount of time needed by each State to implement these provisions with the compelling interest of having students attend a safe school.

Paperwork Reduction Act of 1995

Although the Department of Education is not collecting data, the statute does contain information collection requirements. As required by the Paperwork Reduction Act of 1995 (44 U.S.C. 3507(d)), the Department of Education submitted a copy of the information collection to the Office of Management and Budget (OMB) for its review and approval.

We estimate annual recordkeeping burden for this collection of information to average 20 hours for each of 56 respondents, including the time for reviewing instructions, searching existing data sources, gathering and maintaining the data needed, and completing and reviewing the collection of information. Thus, we estimate the total annual reporting and recordkeeping burden for this collection to be 1120 hours.

If you want to comment on the information collection requirements, please send your comments to the Office of Information and Regulatory Affairs, OMB, room 10235, New Executive Office Building, Washington, DC 20503; Attention: Desk Officer for U.S. Department of Education.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/offices/OSDFS/index.html.

Note: The official version of this document is the document published in the Federal Register. Free Internet access to the official edition of the Federal Register and the Code of Federal Regulations is available on GPO Access at: http://www.access.gpo.gov/nara/index.html.

Program Authority: 20 U.S.C. 7912.

Dated: April 4, 2003.
Judge Eric Andell,
Deputy Under Secretary for Safe and Drug-Free Schools.

[FR Doc. 03-8400 Filed 4-4-03; 8:45 am]

BILLING CODE 4000-01-P